DEPARTMENT OF THE INTERIOR

National Park Service

[2253-665]

Notice of Intent To Repatriate Cultural Items: Maxey Museum, Whitman College, Walla Walla, WA

AGENCY: National Park Service, Interior.

ACTION: Notice.

SUMMARY: Maxey Museum, in consultation with the appropriate Indian tribes, has determined that the cultural items meet the definition of unassociated funerary objects and repatriation to the Indian tribes stated below may occur if no additional claimants come forward. Representatives of any Indian tribe that believes itself to be culturally affiliated with these cultural items may contact Maxey Museum.

DATES: Representatives of any Indian tribe that believes it has a cultural affiliation with the cultural items should contact Maxey Museum at the address below by April 6, 2012.

ADDRESSES: Gary Rollefson, Maxey Museum, Whitman College, 345 Boyer Avenue, Walla Walla, WA 99362, telephone (509) 527-4938.

SUPPLEMENTARY INFORMATION: Notice is here given in accordance with the Native American Graves Protection and Repatriation Act (NAGPRA), 25 U.S.C. 3005, of the intent to repatriate cultural items in the possession of Maxey Museum that meet the definition of unassociated funerary objects under 25 U.S.C. 3001.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

The following cultural items in Maxey Museum came from various collectors and sites within the Columbia River Plateau near the confluence of the Columbia and Snake rivers in Oregon and Washington. The unassociated funerary objects are: 25 stone implements; 3 pestle fragments; 2 pounding stones; 1 grooved weight; 1 grooved stone; 1 mortar; 2 pestles; 1 bone awl; and 1 lot of metal beads.

The stone implements were collected at various points along the Columbia and Snake Rivers, most notably by H.T. Harding and Dr. H.S. Brode. Journals and donor records indicate these objects were collected in the following locations: “opposite the mouth of the Yakima River” in September 1925 and May 1928; “along the Columbia River, north of Pasco, Washington. Presented by H.S. Brode, April 14, 1929”; and along the “Snake River, N.E. Burbank, Washington. H.S. Brode and J.C. Bunnell, 1930.” The bone awl was purchased by Whitman College from Mr. Clarence McBeth on January 24, 1930, and is listed as being from “an Indian grave along the Snake River in Walla Walla County, southwest of Riparia, Washington.” Lastly, the metal beads were taken from “an Indian grave, Tucannon Burial Ground” and were donated to Maxey Museum by F.G. Moor in 1944.

A detailed assessment of the cultural items was made by Maxey Museum professional staff in consultation with representatives of the Confederated Tribes and Bands of the Yakama Nation, Washington; Confederated Tribes of the Colville Reservation, Washington; Confederated Tribes of the Umatilla Reservation, Oregon; Confederated Tribes of the Warm Springs Reservation of Oregon; Nez Perce Tribe, Idaho (previously listed as Nez Perce Tribe of Idaho) (hereafter referred to as “The Tribes”); and the Wanapum Band, a non-Federally recognized Indian group (hereafter referred to as “The Indian Group”). The Tribes and The Indian Group claim these objects as unassociated funerary objects due to the provenance indicating the objects were removed from known burial sites within the Columbia River Plateau. All of the collection sites are located in close proximity to one another within the traditional territories of The Tribes and The Indian Group.

The collection site opposite the mouth of the Yakima River is a burial area now known as site 45FR101, Chiawana Park. Lewis and Clark mentioned how heavily this area was populated during the fall salmon runs. Fishing stations, processing areas and villages were located on both sides of the Columbia River and at the mouth of the Yakima River (Moulton 1988) and north of Pasco, WA. A large excavation of this site occurred in 1967 by the Mid-Columbia Archaeology Society under the direction of Dr. David Rice. Approximately, sixteen burials were removed to a repository at Washington State University; however, some of the remains were reported to be repatriated to the Yakama Nation in 1982 (Collins et al. 2001, LaSarge 2002). Brode and Bunnell collected together in the 1930s at NE Burbank, WA, on the Snake River. Hood Park is northeast of Burbank and was heavily used as a traditional salmon fishing and processing area by The Tribes and The Indian Group (Iverson 1976; Croghan 1999; Wright 2001). Wright (2001:6) states that burials were located and removed from the day use and campground areas of the park in the mid-1970s. Erosion along the Snake River shoreline has also caused burials to be exposed from this location over the years. The Tucannon Burial Ground is congruent with Smithsonian site 45CO1, a large, heavily looted fishing station, open camp and burial site at the mouth of the Tucannon River where it joins the Snake River. The Indian grave described as southwest of Riparia, WA, is likely in the vicinity of the mouth of the Tucannon River. The Tucannon River is situated along a traditional cultural boundary between the Nez Perce Tribe and the Confederated Tribes of the Umatilla Reservation.

Based on traditional lifeways, past and present, The Tribes and The Indian Group are direct descendant communities of the native people that jointly used the lower Snake and Columbia rivers. As aboriginal lifeways were being extinguished by Euro-American settlement of the Pacific Northwest, treaties were negotiated and signed with the native communities during the expansion of Washington and Oregon territories. The native peoples in these territories were removed from the shores of the Columbia and Snake rivers to the Colville, Umatilla, Warm Springs, Yakama and Nez Perce reservations. The Wanapum Band was removed from the rivers as well but was not put on a reservation of their own. Cultural affiliation is further reinforced by living, enrolled members of The Tribes and The Indian Group that have documented ancestors buried along the lower Snake and Columbia rivers.

Determinations Made by Maxey Museum

Officials of Maxey Museum have determined that:

• Pursuant to 25 U.S.C. 3001(3)(B), the 37 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and The Tribes and The Indian Group.

Additional Requestors and Disposition

Representatives of any other Indian tribe that believes itself to be culturally affiliated with the unassociated funerary objects should contact Gary Rollefson, Maxey Museum, Whitman College, 345 Boyer Avenue, Walla Walla, WA 99362, telephone (509) 527-4938, before April 6, 2012. Repatriation of the unassociated funerary objects to The Tribes and The Indian Group may proceed after that date if no additional claimants come forward.

Maxey Museum is responsible for notifying The Tribes and The Indian Group that this notice has been published.

Dated: March 2, 2012.
Sherry Hutt,
Manager, National NAGPRA Program.

[FR Doc. 2012-5581 Filed 3-6-12; 8:45 am]

BILLING CODE 4312-50-P